SECURITIES AND EXCHANGE COMMISSION

Sunshine Act Meeting; Notice

Notice is hereby given, pursuant to the provisions of the Government in the Sunshine Act, Public Law 94-409, that the Securities and Exchange Commission will hold an Open Meeting on October 21, 2009, at 10 a.m., in the Auditorium, Room L-002.

The subject matter of the Open Meeting will be:

The Commission will consider recommendations to propose amendments to the regulatory requirements that apply to non-public trading interest, including so-called “dark pools” of liquidity. The recommended proposals are to: (1) Amend the definition of “bid” or “offer ” in Regulation NMS under the Securities Exchange Act of 1934 (“Exchange Act”) to address actionable indications of interest; (2) amend the display obligations of alternative trading systems in Regulation ATS under the Exchange Act; and (3) amend the joint-industry plans for disseminating consolidated trade data.

At times, changes in Commission priorities require alterations in the scheduling of meeting items.

For further information and to ascertain what, if any, matters have been added, deleted or postponed, please contact: The Office of the Secretary at (202) 551-5400.

Dated: October 14, 2009.
Elizabeth M. Murphy,
Secretary.

[FR Doc. E9-25048 Filed 10-14-09; 4:15 pm]

BILLING CODE 8011-01-P